DEPARTMENT OF COMMERCE

International Trade Administration

[A-201-842]

Large Residential Washers From Mexico: Final Results of Antidumping Duty Administrative Review; 2015-2016

AGENCY: Enforcement and Compliance, International Trade Administration, Department of Commerce.

SUMMARY: On March 6, 2017, the Department of Commerce (the Department) published the preliminary results of the third administrative review of the antidumping duty (AD) order on large residential washers (LRWs) from Mexico. The period of review (POR) is February 1, 2015, to January 31, 2016. Based on our analysis of the comments received and our verification findings, we made certain changes in the margin calculations. Therefore, the final results differ from the preliminary results. The final weighted-average dumping margin for the respondent, Electrolux Home Products Corp. N.V. and Electrolux Home Products de Mexico, S.A. de C.V. (collectively, Electrolux ¹), is listed below in the section entitled “Final Results of the Review.”

¹ We inadvertently included Electrolux Home Products, Inc. as a producer/exporter of subject merchandise in our preliminary results. See Large Residential Washers from Mexico: Preliminary Results of the Antidumping Duty Administrative Review; 2015-2016, 82 FR 12538 (March 6, 2017) (Preliminary Results), and accompanying Preliminary Results Decision Memorandum (PDM) at 1. However, Electrolux Home Products, Inc. is the U.S. affiliate of Electrolux.

DATES: Effective July 12, 2017.

FOR FURTHER INFORMATION CONTACT: Ross Belliveau or Rebecca Janz, AD/CVD Operations, Office II, Enforcement and Compliance, International Trade Administration, U.S. Department of Commerce, 1401 Constitution Avenue NW., Washington, DC 20230; telephone: (202) 482-4952 or (202) 482-2972, respectively.

SUPPLEMENTARY INFORMATION:

Background

The review covers one producer/exporter of the subject merchandise: Electrolux. On March 6, 2017, the Department published the Preliminary Results.² In April 2017, the Department verified the sales data reported by Electrolux, in accordance with section 782(i) of the Tariff Act of 1930, as amended (the Act).

² See Preliminary Results.

In May 2017, we received case briefs from Whirlpool Corporation (the petitioner) and Electrolux. In June 2017, we received a rebuttal brief from the petitioner.

Scope of the Order

The products covered by the order are all large residential washers and certain subassemblies thereof from Mexico. The products are currently classifiable under subheadings 8450.20.0040 and 8450.20.0080 of the Harmonized Tariff System of the United States (HTSUS). Products subject to this order may also enter under HTSUS subheadings 8450.11.0040, 8450.11.0080, 8450.90.2000, and 8450.90.6000. Although the HTSUS subheadings are provided for convenience and customs purposes, the written description of the merchandise subject to this scope is dispositive.³

³ A full description of the scope of the order is contained in Memorandum, “Issues and Decision Memorandum for the Final Results of the Antidumping Duty Administrative Review of Large Residential Washers from Mexico,” dated concurrently with this notice (Issues and Decision Memorandum).

Analysis of Comments Received

All issues raised in the case briefs by parties are listed in the Appendix to this notice and addressed in the Issues and Decision Memorandum. Parties can find a complete discussion of these issues and the corresponding recommendations in this public memorandum, which is on file electronically via Enforcement and Compliance's Antidumping and Countervailing Duty Centralized Electronic Service System (ACCESS). ACCESS is available to registered users at http://access.trade.gov; the Issues and Decision Memorandum is also available to all parties in the Central Records Unit, room B8024, of the main Department of Commerce building. In addition, a complete version of the Issues and Decision Memorandum can be accessed directly at http://enforcement.trade.gov/frn/index.html. The signed Issues and Decision Memorandum and the electronic version of the Issues and Decision Memorandum are identical in content.

Changes Since the Preliminary Results

Based on comments received from interested parties regarding our Preliminary Results and our findings at verification, we made certain changes to the preliminary calculation of weighted-average dumping margin calculations for Electrolux.

Final Results of the Review

We are assigning the following weighted-average dumping margin to Electrolux:

Manufacturer/exporter | Weighted-average dumping margin (percent)
Electrolux Home Products Corp. NV/Electrolux Home Products de Mexico, S.A. de C.V | 3.67

We intend to disclose the calculations performed within five days of the date of publication of this notice to parties in this proceeding in accordance with 19 CFR 351.224(b).

Duty Assessment

Pursuant to section 751(a)(2)(C) of the Act, and 19 CFR 351.212(b)(1), the Department has determined, and CBP shall assess, antidumping duties on all appropriate entries of subject merchandise in accordance with the final results of this review. The Department intends to issue appropriate assessment instructions directly to CBP 41 days after publication of the final results of this administrative review.

For Electrolux, the Department calculated an ad valorem importer-specific assessment rate equal to the total amount of dumping calculated for the importer's examined sales and the total entered value of those sales. Where an importer-specific assessment rate is zero or de minimis (i.e., less than 0.5 percent), the Department will instruct CBP to liquidate these entries without regard to antidumping duties pursuant to 19 CFR 351.106(c)(2).

The Department's “automatic assessment” practice will apply to entries of subject merchandise during the POR produced by Electrolux, for which the company did not know that its merchandise was destined for the United States.⁴ In such instances, we will instruct CBP to liquidate unreviewed entries at the all-others rate established in the less-than fair-value (LTFV) investigation (i.e., 36.52 percent),⁵ if there is no rate for the intermediary company(ies) involved in the transaction.

⁴ See Antidumping and Countervailing Duty Proceedings: Assessment of Antidumping Duties, 68 FR 23954 (May 6, 2003) for a full discussion of this practice.

⁵ See Large Residential Washers From Mexico and the Republic of Korea: Antidumping Duty Orders, 78 FR 11148 (February 15, 2013).

Cash Deposit Requirements

The following deposit requirements will be effective upon publication of the notice of final results of administrative review for all shipments of the subject merchandise entered, or withdrawn from warehouse, for consumption on or after the date of publication, as provided by section 751(a)(2)(C) of the Act: (1) The cash deposit rate for Electrolux will be equal to the weighted-average dumping margin established in the final results of this administrative review; (2) for merchandise exported by manufacturers or exporters not covered in this administrative review but covered in a prior segment of the proceeding, the cash deposit rate will continue to be the company-specific rate published for the most recently-completed segment; (3) if the exporter is not a firm covered in this review, a prior review, or the original LTFV investigation, but the manufacturer is, the cash deposit rate will be the rate established for the most recently-completed segment of this proceeding for the manufacturer of the merchandise; and (4) the cash deposit rate for all other manufacturers or exporters will continue to be 36.52 percent, the all-others rate determined in the LTFV investigation.⁶ These cash deposit requirements, when imposed, shall remain in effect until further notice.

⁶ Id.

Notification to Importers Regarding the Reimbursement of Duties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751(a)(1) and 777(i)(1) of the Act and 19 CFR 351.213(h) and 351.221(b)(5) of the Department's regulations.

Dated: July 5, 2017.
Gary Taverman,
Deputy Assistant Secretary for Antidumping and Countervailing Duty Operations, performing the non-exclusive functions and duties of the Assistant Secretary for Enforcement and Compliance.

Appendix I—List of Topics Discussed in the Issues and Decision Memorandum

I. Summary

II. Background

III. Scope of the Order

IV. Margin Calculations

V. Discussion of the Issues

Comment 1. The Department's Use of Zeroing

Comment 2. Methodological Issues in the Differential Pricing Analysis

Comment 3. Calculation Errors in Electrolux's Margin Program

VI. Recommendation

[FR Doc. 2017-14610 Filed 7-11-17; 8:45 am]

BILLING CODE 3510-DS-P